DEPARTMENT OF THE INTERIOR

Bureau of Indian Affairs

[201D0102DR/DS5A300000/DR.5A311.IA000118]

Land Acquisitions; Wyandotte Nation

AGENCY: Bureau of Indian Affairs, Interior.

ACTION: Notice.

SUMMARY: The Assistant Secretary—Indian Affairs made a final agency determination to acquire 10.24 acres, more or less, of land in trust for the Wyandotte Nation, for gaming and other purposes on May 20, 2020.

FOR FURTHER INFORMATION CONTACT: Ms. Paula L. Hart, Director, Office of Indian Gaming, Bureau of Indian Affairs, MS-3657 MIB, 1849 C Street NW, Washington, DC 202240, telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On May 20, 2020 the Assistant Secretary—Indian Affairs made a final agency determination to accept approximately approximately 10.24 acres of land in Park City, Sedgwick County, Kansas (Park City Parcel), into trust for the Wyandotte Nation, pursuant to Section 105(b)(1) of Public Law 98-602, An Act To Provide For The Use And Distribution Of Certain Funds Awarded The Wyandotte Tribe Of Oklahoma . . ., Public Law 98-602, 98 Stat. 3151 (1984). The Assistant Secretary—Indian Affairs also determined that the Tribe's request also meets the requirements of the Indian Gaming Regulatory Act's “settlement of a land claim” exception, 25 U.S.C. 2719(b)(1)(A)(i), to the general prohibition contained in 25 U.S.C. 2719(a) on gaming on lands acquired in trust after October 17, 1988.

The Assistant Secretary—Indian Affairs, on behalf of the Secretary of the Interior, will immediately acquire title to the Park City Parcel, in the name of the United States of America in Trust for the Wyandotte Nation, upon fulfillment of Departmental requirements. The 10.24 acres, more or less, are described as follows:

Legal Description of Property

Deed Description

A tract of land in Coliseum Center, an Addition to Park City, Sedgwick County, Kansas described as follows: Beginning at a point on the South line and 50 feet West of the Southeast corner of Lot 3, Block 1, in said Coliseum Center Addition; thence along the South line of said Lot 3 bearing North 89°39′26″ West, a distance of 250.00 feet to the Southwest corner of said Lot 3; thence bearing North 90°00′00″ West across Athens Court, a distance of 70.00 feet to the Southeast corner of Lot 1 in said Block 1; thence along the South line of said Lot 1 bearing North 89°40′18″ West, a distance of 180.00 feet; thence bearing South 0°00′00″ East, a distance of 917.75 feet to a point in the South line of Lot 6 in said Block 1; thence along said South line bearing South 89°42′56″ East, a distance of 500.00 feet; thence bearing North 0°00′00″ East, a distance of 917.70 feet to the point of beginning EXCEPT that portion of Athens Court (cul-desac) within the above described tract of land.

Surveyed Description

A tract of land in government Lots 1 and 2 of the NE-¼ of Section 4, Township 26 South, Range 1 East of the Sixth Principal Base and Meridian and being a part of Lot 6, Block 1 of Coliseum Center Addition in Park City, Sedgwick County, Kansas, being more fully described as follows:

Commencing at the Northeast comer of said Section 4; thence S 00°12′40″ E along the East line thereof, 1319.11 feet to the Northeast corner of the S-½ of the NE-¼ of said Section 4 from which an iron pin bears N 89°54′04″W, 60.00 feet; thence N 89°54′04″ W along the North line of said S-½ of the NE-¼, a distance of 1015.07 feet to a found pin with cap on the South line of said Lot 6, Block 1, the Point Of Beginning; thence N 00°11′12″ W, 917. 70 feet to an existing iron pin on the North line of said Lot 6, Block 1, from which the Southeast corner of Lot 3, Block l of Coliseum Center Addition bears S 89°51′52″E, 50.00 feet; thence N 89°51′52″ W along the north line of said Lot 6, a distance of 250.00 (250.04 meas.) feet to the intersection with Athens Court cul-de-sac right-of-way; thence following said right-of-way along a non-tangent curve to the right having a radius of 65.00 feet and a central angle of 294°49′42″, an arc distance of 334.49 (334.47 meas.) feet (chord = S 89°47′52″ W, 70.00 feet) to an existing pin on the North line of said Lot 6; thence N 89°52′05″ W along the North line of Lot 6, a distance of 180.00 feet to an existing pin; thence S 00°11′46″ E, 917.75 (917.69 meas.) feet to an existing pin on the South line of said Lot 6; thence S 89°54′46″ E along said South line, 500.00 (499.92 meas.) feet; to the Point Of Beginning.

Survey performed Allgeier, Martin and Associates under direct supervision of Monnie Sears, LS-1284, Licensed Kansas Land Surveyor, dated August 5, 2015.

Containing 10.24 acres, (446,052 Square Feet) more or less.

Basis of Bearings: Geodetic (True) North.

Less and except title to all the coal, lignite, oil, gas and other minerals in, under and that may be produced from the land, together with all rights, privileges and immunities relating thereto.

Tara Sweeney,
Assistant Secretary—Indian Affairs.

[FR Doc. 2020-11976 Filed 6-2-20; 8:45 am]

BILLING CODE 4337-15-P